DEPARTMENT OF COMMERCE

National Oceanic and Atmospheric Administration

50 CFR Part 679

[Docket No. 010112013-1013-01; I.D. 011101B]

RIN 0648-A082

Fisheries of the Exclusive Economic Zone Off Alaska; Steller Sea Lion Protection Measures for the Groundfish Fisheries Off Alaska; Final 2001 Harvest Specifications and Associated Management Measures for the Groundfish Fisheries Off Alaska; Correction

AGENCY: National Marine Fisheries Service (NMFS), National Oceanic and Atmospheric Administration (NOAA), Commerce.

ACTION: Emergency interim rule; correction.

SUMMARY: This document corrects the emergency interim rule implementing Steller sea lion protection measures and announcing final 2001 harvest specifications and associated management measures for the groundfish fisheries of the Bering Sea and Aleutian Islands (BSAI) management area and the Gulf of Alaska (GOA). The emergency interim rule was published in the Federal Register January 22, 2001.

DATES: Effective from January 18, 2001, through July 17, 2001, except for 50 CFR 679.22(a)(11)(v), (a)(12)(v), and (b)(3)(iv), which will be effective from 1200 hours (Noon) A.l.t., June 10, 2001, through July 17, 2001.

FOR FURTHER INFORMATION CONTACT: Melanie Brown, Sustainable Fisheries Division, Alaska Region, 907-586-7459 or email at melanie.brown@noaa.gov.

SUPPLEMENTARY INFORMATION: This document corrects text and tables in the preamble and regulatory text to 50 CFR part 679 of the emergency interim rule implementing Steller sea lion protection measures and announcing final 2001 harvest specifications for the groundfish fisheries of the BSAI and GOA that was published in the Federal Register on January 22, 2001 (66 FR 7276). Also, in the regulatory text of the emergency interim rule, Table 21 is reprinted in its entirety because it was sent incorrectly for publication.

Corrections

In the emergency interim rule implementing Steller sea lion protection measures and announcing final 2001 harvest specifications for the groundfish fisheries of the BSAI and GOA, published on January 22, 2001 (66 FR 7276), FR Doc. 01-1744, corrections are made as follows:

1. On page 7283, column 1, correct the first complete paragraph to read as follows: “In the GOA, three of the haulout sites that qualify for closure to 10 nm under criteria in the 1998-1 BiOp, Point Elrington, The Needles, and Glacier Island, lie entirely within Alaska State waters. The State of Alaska has developed temporal and spatial Steller sea lion protection measures for pollock harvests. Because these sites are located in waters under State jurisdiction and the State has implemented Steller sea lion protection measures, these sites are not established as pollock trawl exclusion zones under this emergency rule.”

2. On page 7287, column 1, in the first paragraph after Table 5 to the preamble, line 17, the reference to “§ 679.22(a)(8)” is corrected to read “§ 679.22(a)(12)”.

3. On page 7287, column 2, line 11 of the incomplete paragraph, the reference to “(§ 679.22(a)(8)(iii)(B))” is corrected to read “(§ 679.22(a)(12)(iii)(B))”.

4. On page 7292, Table 11 to the preamble is reprinted to read as follows:

TABLE 11—BERING SEA SUBAREA POLLOCK ALLOCATIONS TO THE COOPERATIVE AND OPEN ACCESS SECTORS OF THE INSHORE POLLOCK FISHERY. AMOUNTS ARE EXPRESSED IN METRIC TONS
| A/B season TAC | A season inside SCA¹ | B season inside SCA | C/D season TAC | C season inside SCA¹ | D season inside SCA
Cooperative sector |  |  |  |  |  |
Vessels> 99 ft | n/a | 65,036 | n/a | n/a | n/a | 49,031
Vessels ≤ 99 ft | n/a | 16,447 | n/a | n/a | n/a | 16,447
Total | 240,976 | 81,483 | 27,161 | 361,465 | 39,286 | 65,478
Open access sector | 944 | 3192 | 106 | 1,415 | 154 | ² 256
Total inshore | 241,920 | 81,802 | 27,267 | 362,880 | 39,440 | 65,734
¹Steller sea lion conservation area established at § 679.22(a)(11)(iv).
² SCA limitations for vessels less than or equal to 99 ft LOA that are not participating in a cooperative will be established on an inseason basis in accordance with § 679.22(a)(11)(iv)(D)( 2) which specifies that ‘‘The Regional Administrator will prohibit directed fishing for pollock by vessels greater than 99 ft (30.2 m) LOA, catching pollock for processing by the inshore component before reaching the inshore SCA harvest limit during the A and D seasons to accommodate fishing by vessels less than or equal to 99 ft (30.2 m) inside the SCA for the duration of the inshore seasonal opening.”

5. On page 7300, footnote 2 to Table 19 to the preamble is corrected to read as follows:

“²Pollock is apportioned in the Western/Central Regulatory areas to the Shelikof Strait conservation area (defined at § 679.22(b)(3)(iii)(B)) in the A and B seasons only (§ 679.22(b)(3)(iii)(A)) in accordance with § 679.22(b)(3)(iii)(C) and the remainder to the three statistical areas in the combined Western/Central Regulatory Area outside the Shelikof Strait based on the relative distribution of pollock biomass at 56 percent, 4 percent, and 40 percent in Regulatory areas 610, 620, and 630 respectively. During the C and D seasons, pollock is apportioned based on the relative distribution of pollock biomass at 42 percent, 25 percent, and 33 percent in Regulatory Areas 610, 620, and 630 respectively. These seasonal apportionments are shown in Tables 21 and 22. In the West Yakutat and Southeast Outside Districts of the Eastern Regulatory Area, pollock is not divided into seasonal allowances.”

6. On page 7301, in column 1, paragraph 1 after Table 20 to the preamble, line 12, the reference “§ 679.23(d)(2)” is corrected to read “§ 679.23(d)(3)” and in paragraph 2, line 4, the reference “§ 679.22(b)(2)(iii)(B)” is corrected to read “§ 679.22(b)(3)(iii)(B)”.

7. On page 7301, in column 2, in the last line of the incomplete paragraph after Table 20 to the preamble, the reference “(§ 679.22(b)(2)(iii)(C))” is corrected to read “(§ 679.22(b)(3)(iii)(C))”.

8. On page 7302, in footnote 1 to Table 22 to the preamble, the expiration date for pollock is corrected from “June 10, 2001” to read “July 17, 2001 ”.

9. On page 7303, in Table 23 to the preamble, under the TAC column for Central B Season (40%), correct “12,250 ” to read “12,100 ”;

§ 679.22 [Corrected]

9a. On page 7316, column 3, amendatory instruction 8 is corrected to read as follows:

“8. In § 679.22, paragraphs (a)(7), (a)(8), and (b)(2) are suspended until July 17, 2001, and paragraphs (a)(11), (a)(12), (a)(13), (b)(3), and (b)(6) are added to read as follows:”

10. Under § 679.22:

a. On page 7317, columns 1-3, the table under paragraph (a)(11)(iv)(D)(1) is correctly revised to read as follows:

(a) * * *

(11) * * *

(iv) * * *

(D) * * *

(1) * * *

Seasonal DFA Apportionment and Harvest Limits Within the SCA
(in metric tons)
Industry Sector | A/B (40% of annual DFA): A-SCA limit | A/B (40% of annual DFA): B-SCA limit | C/D (60% of annual DFA): C-SCA limit | C/D (60% of annual DFA): D-SCA limit
Inshore | 81,802 | 27,267 | 39,440 | 65,734
Inshore Open Access | 319 | 106 | 154 | 256
C/P | 38,564 | 12,854 | 0 | 0
Mothership | 14,607 | 4,869 | 0 | 0
CDQ | 28,247 | 9,339 | 9,567 | 15,718

b. On page 7317, column 1, paragraph (a)(11)(iv)(D)(2) is corrected to read as follows:

(a) * * *

(11) * * *

(iv) * * *

(D) * * *

(2) Inshore catcher vessels greater than 99 ft (30.2 m) LOA. The Regional Administrator will prohibit directed fishing for pollock by vessels greater than 99 ft (30.2 m) LOA, catching pollock for processing by the inshore component before reaching the inshore SCA harvest limit during the A and D seasons to accommodate fishing by vessels less than or equal to 99 ft (30.2 m) inside the SCA for the duration of the inshore seasonal opening. The Regional Administrator will estimate how much of the inshore seasonal allowance is likely to be harvested by catcher vessels less than or equal to 99 ft (30.2 m) LOA and reserve a sufficient amount of the inshore SCA allowance to accommodate fishing by such vessels after the closure of the SCA to inshore vessels greater than 99 ft (30.2 m) LOA. The Regional Administrator will prohibit directed fishing for all inshore catcher vessels within the SCA when the inshore limit specified in paragraph (a)(11)(iv)(D)(1) of this section has been met.

c. On page 7317, column 2, paragraphs (a)(11)(v)(A)(2), (a)(11)(v)(A)(3) and (a)(11)(v)(C) are corrected to read as follows:

(a) * * *

(11) * * *

(v) * * *

(A) * * *

(2) Area 8. All waters within the SCA, as defined in 50 CFR 679.22(a)(11)(iv)(B), east to a line connecting the point 55° 30′ N lat./166° W long. with the point 54° 51′ N lat./164° 33′ 33″ W long., and west to the eastern boundary of area 518, as described in figure 1 of this part, and including 20 nm seaward of selected sites. These sites are listed in Table 21 to this part and are identifiable by “Bering Sea” in column 2 and “8 ” in column 16.

(3) Area 9. All waters within the SCA, as defined in 50 CFR 679.22(a)(11)(iv)(B), east to the eastern boundary of area 518, as described in figure 1 of this part, west to the western boundary of area 518, as described in figure 1 of this part, and north to 55° N lat., and including 20 nm seaward of selected sites. These sites are listed in Table 21 to this part and are identifiable by “Bering Sea” in column 2 and “9” in column 16.

* * * * *

(C) Directed fishing for groundfish by all federally permitted vessels is prohibited within 3 nm of selected sites in Steller sea lion management areas 7, 8, and 9. These sites are listed in Table 21 to this part and are identifiable by a “Y” in column 14 and “7”, “8”, or “9” in column 16.

d. On page 7317, column 3, paragraph (a)(12)(iii)(A) is corrected to read as follows:

(a) * * *

(12) * * *

(iii) Western and Central Aleutian Islands closures—(A) General. Trawling is prohibited within 20 nm of selected rookery and haulout sites in the Aleutian islands subarea when the Regional Administrator announces by notification in the Federal Register that the criteria for a trawl closure in a district set out in paragraph (a)(12)(iii)(B) of this section have been met. These sites are listed in Table 21 to this part and are identifiable by a designation of “Aleutian Islands” in column 2, “R” or “H” in column 7, “Y” or “N” in column 14, and “C” in column 15.

* * * * *

e. On page 7318, column 1, paragraph (a)(12)(iv) is corrected to read as follows:

(a) * * *

(12) * * *

(iv) Pollock closure. Until 1200 hours, A.l.t., June 10, 2001, directed fishing for pollock is prohibited at all times within the Aleutian Islands subarea. After 1200 hours, A.l.t., June 10, 2001, refer to paragraph (a)(12)(v) of this section for fishing prohibitions.

f. On page 7318, column 1, paragraph (a)(12)(v)(C) is corrected to read as follows:

(a) * * *

(12) * * *

(v) * * *

(C) Directed fishing for groundfish by all federally permitted vessels is prohibited within 3 nm of selected sites in Steller sea lion management areas 12 and 13. These sites are listed in Table 21 to this part and are identifiable by a “Y” in column 14 and “12” or “13” in column 16.

g. On page 7319, column 1, paragraph (b)(3)(iv)(C) is corrected to read as follows:

(b) * * *

(3) * * *

(iv) * * *

(C) Directed fishing for groundfish by all federally permitted vessels is prohibited within 3 nm of selected sites in Steller sea lion management areas 1, 2, 3, 4, 5, 6, 10, and 11. These sites are listed in Table 21 to this part and are identifiable by an “Y” in column 14 and “1”, “2”, “3”, “4”, “5”, “6”, “10” or “11” in column 16.

h. On page 7319, column 1, paragraph (b)(5) is corrected by redesignating it as paragraph (b)(6).

§ 679.60 [Corrected]

11. On page 7321, column 1, after § 679.60(d)(1)(iv), add paragraph “(2) [Reserved]”.

12. On page 7323, column 3, instruction 12 is corrected to read “In 50 CFR part 679, Tables 4, 5, and 6 to part 679 are suspended, and Table 21 to part 679 is added to read as follows:”

Table 21 to Part 679 [Corrected]

13. On page 7324, Table 21 to part 679 is reprinted to read as follows:

BILLING CODE 3510-22-S

Dated: March 12, 2001.
Rolland A. Schmitten,
Acting Assistant Administrator for Fisheries, National Marine Fisheries Service.

[FR Doc. 01-6748 Filed 3-20-01; 8:45 am]

BILLING CODE 3510-22-C